DEPARTMENT OF THE INTERIOR

National Park Service

[NPS-WASO-NAGPRA-21980; PPWOCRADN0-PCU00RP14.R50000]

Notice of Intent To Repatriate Cultural Items: Phoebe A. Hearst Museum of Anthropology, University of California, Berkeley, Berkeley, CA

AGENCY: National Park Service, Interior.

ACTION: Notice.

SUMMARY: The University of California, in consultation with the appropriate Indian tribes or Native Hawaiian organizations, has determined that the cultural items listed in this notice meet the definition of cultural item under 25 U.S.C. 3001. Lineal descendants or representatives of any Indian tribe or Native Hawaiian organization not identified in this notice that wish to claim these cultural items should submit a written request to the Phoebe A. Hearst Museum of Anthropology. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Phoebe A. Hearst Museum of Anthropology at the address in this notice by November 2, 2016.

ADDRESSES: Jordan Jacobs, Phoebe A. Hearst Museum of Anthropology, 103 Kroeber Hall, University of California, Berkeley, Berkeley, CA 94720-3712, telephone (510) 643-8230, email PAHMA-Repatriation@berkeley.edu.

SUPPLEMENTARY INFORMATION: Notice is here given in accordance with the Native American Graves Protection and Repatriation Act (NAGPRA), 25 U.S.C. 3005, of the intent to repatriate cultural items under the control of the Phoebe A. Hearst Museum of Anthropology, University of California, Berkeley, Berkeley, CA, that meet the definition of cultural item under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1913, three cultural items were removed from a location near Korbel, Humboldt County, CA. The 3 cultural items are 2 sharpened hazel wood sticks (31 and 20 centimeters in length respectively) and 1 sharpened, forked sprig of redwood (29 centimeters in length). These cultural items were removed from a redwood tree by L.L. Loud while conducting ethnological research for the University of California. Evidence presented by the consulting Indian tribes and ethnographic sources support the use of the tree and the cultural items to mark the boundary between Wiyot and Chilula territories.

The cultural affiliation of the three cultural items is to the Wiyot, Whilkut, and Chilula as indicated by museum records, ethnographic sources, and consultation with tribal representatives.

Determinations Made by the University of California

Officials of the University of California have determined that:

• Pursuant to 25 U.S.C. 3001, the 3 cultural items described above meet the definition of cultural item and are subject to repatriation under NAGPRA.

• Pursuant to 25 U.S.C. 3001(2), there is a relationship of shared group identity that can be reasonably traced between the 3 cultural items and the Bear River Band of the Rohnerville Rancheria, California; Blue Lake Rancheria, California; Cher-Ae Heights Indian Community of the Trinidad Rancheria, California; Hoopa Valley Tribe, California; and Wiyot Tribe, California (previously listed as the Table Bluff Reservation-Wiyot Tribe).

Additional Requestors and Disposition

Lineal descendants or representatives of any Indian tribe or Native Hawaiian organization not identified in this notice that wish to claim these cultural items should submit a written request with information in support of the claim to Jordan Jacobs, Phoebe A. Hearst Museum of Anthropology, 103 Kroeber Hall, University of California, Berkeley, Berkeley, CA 94720-3712, telephone (510) 643-8230, email PAHMA-Repatriation@berkeley.edu by November 2, 2016. After that date, if no additional claimants have come forward, transfer of control of the cultural items to the Bear River Band of the Rohnerville Rancheria, California; Blue Lake Rancheria, California; Cher-Ae Heights Indian Community of the Trinidad Rancheria, California; Hoopa Valley Tribe, California; and Wiyot Tribe, California (previously listed as the Table Bluff Reservation-Wiyot Tribe), may proceed.

The Phoebe A. Hearst Museum of Anthropology is responsible for notifying the Bear River Band of the Rohnerville Rancheria, California; Blue Lake Rancheria, California; Cher-Ae Heights Indian Community of the Trinidad Rancheria, California; Hoopa Valley Tribe, California; and Wiyot Tribe, California (previously listed as the Table Bluff Reservation-Wiyot Tribe), that this notice has been published.

Dated: September 14, 2016.
Melanie O'Brien,
Manager, National NAGPRA Program.

[FR Doc. 2016-23805 Filed 9-30-16; 8:45 am]

BILLING CODE 4312-52-P